DEPARTMENT OF ENERGY

Federal Energy Regulatory Commission

Combined Notice of Filings #1

Take notice that the Commission received the following electric corporate filings:

Docket Numbers: EC21-89-000.

Applicants: Quitman II Solar, LLC.

Description: Application for Authorization Under Section 203 of the Federal Power Act of Quitman II Solar, LLC.

Filed Date: 5/6/21.

Accession Number: 20210506-5185.

Comments Due: 5 p.m. ET 5/27/21.

Docket Numbers: EC21-90-000.

Applicants: Cool Springs Solar, LLC.

Description: Application for Authorization Under Section 203 of the Federal Power Act of Cool Springs Solar, LLC.

Filed Date: 5/6/21.

Accession Number: 20210506-5187.

Comments Due: 5 p.m. ET 5/27/21.

Take notice that the Commission received the following electric rate filings:

Docket Numbers: ER17-194-006.

Applicants: Hartree Partners, LP.

Description: Notice of Change in Status of Hartree Partners, LP.

Filed Date: 5/6/21.

Accession Number: 20210506-5189.

Comments Due: 5 p.m. ET 5/27/21.

Docket Numbers: ER17-1394-004; ER19-2728-002; ER19-2729-002.

Applicants: 83WI 8me, LLC, Lily Solar LLC, Lily Solar Lessee, LLC.

Description: Notice of Non-Material Change in Status of X-Elio Public Utilities.

Filed Date: 5/6/21.

Accession Number: 20210506-5190.

Comments Due: 5 p.m. ET 5/27/21.

Docket Numbers: ER19-2757-005.

Applicants: California Independent System Operator Corporation.

Description: Compliance filing: 2021-05-07 FERC Order 831- Reconciliation of Commission-Approved Tariff Records to be effective 3/21/2021.

Filed Date: 5/7/21.

Accession Number: 20210507-5184.

Comments Due: 5 p.m. ET 5/28/21.

Docket Numbers: ER20-2148-003.

Applicants: Lexington Chenoa Wind Farm LLC.

Description: Compliance filing: Informational Filing Pursuant to Schedule 2 of the PJM OATT & Request for Waiver to be effective N/A.

Filed Date: 5/7/21.

Accession Number: 20210507-5185.

Comments Due: 5 p.m. ET 5/28/21.

Docket Numbers: ER21-1454-001.

Applicants: Midcontinent Independent System Operator, Inc., American Transmission Company LLC.

Description: Tariff Amendment: 2021-05-07_SA 2800 ATC-City of Stoughton Substitute 1st Rev CFA to be effective 5/17/2021.

Filed Date: 5/7/21.

Accession Number: 20210507-5026.

Comments Due: 5 p.m. ET 5/28/21.

Docket Numbers: ER21-1568-000.

Applicants: Tri-State Generation and Transmission Association, Inc.

Description: Amendment to March 21, 2021 Tri-State Generation and Transmission Association, Inc. tariff filing.

Filed Date: 5/5/21.

Accession Number: 20210505-5110.

Comments Due: 5 p.m. ET 5/26/21.

Docket Numbers: ER21-1684-000.

Applicants: DesertLink, LLC.

Description: Informational Filing of the Projected Net Revenue Requirement and True-up Adjustment of DesertLink, LLC.

Filed Date: 4/15/21.

Accession Number: 20210415-5047.

Comments Due: 5 p.m. ET 5/11/21.

Docket Numbers: ER21-1742-000.

Applicants: Tampa Electric Company.

Description: Supplemental Motion to April 22, 2021 Request for Waiver of Rate Schedule Provisions, et al. of Tampa Electric Company.

Filed Date: 5/7/21.

Accession Number: 20210507-5028.

Comments Due: 5 p.m. ET 5/14/21.

Docket Numbers: ER21-1864-000.

Applicants: The Empire District Electric Company.

Description: Compliance filing: Compliance with Order No. 864 to be effective N/A.

Filed Date: 5/6/21.

Accession Number: 20210506-5172.

Comments Due: 5 p.m. ET 5/27/21.

Docket Numbers: ER21-1865-000.

Applicants: PJM Interconnection, L.L.C.

Description: § 205(d) Rate Filing: Original IISA, Service Agreement No. 6061; Queue No. AF1-227 to be effective 4/14/2021.

Filed Date: 5/7/21.

Accession Number: 20210507-5050.

Comments Due: 5 p.m. ET 5/28/21.

Docket Numbers: ER21-1866-000.

Applicants: Otter Tail Power Company.

Description: § 205(d) Rate Filing: Revisions to the Schedule and Appendices of the OMA 230 kV Bemidji-Grand Rapids to be effective 7/6/2021.

Filed Date: 5/7/21.

Accession Number: 20210507-5057.

Comments Due: 5 p.m. ET 5/28/21.

Docket Numbers: ER21-1867-000.

Applicants: Avista Corporation.

Description: § 205(d) Rate Filing: Avista Corp NITSA SA T-1098 Low Voltage Charges to be effective 6/1/2021.

Filed Date: 5/7/21.

Accession Number: 20210507-5060.

Comments Due: 5 p.m. ET 5/28/21.

Docket Numbers: ER21-1868-000.

Applicants: Nevada Power Company.

Description: § 205(d) Rate Filing: Service Agreement No. 20-00037 NPC 302PN 8me LLC EPC Agreement to be effective 5/8/2021.

Filed Date: 5/7/21.

Accession Number: 20210507-5068.

Comments Due: 5 p.m. ET 5/28/21.

Docket Numbers: ER21-1869-000.

Applicants: Northern Indiana Public Service Company.

Description: § 205(d) Rate Filing: Filing of a CIAC Agreement to be effective 5/7/2021.

Filed Date: 5/7/21.

Accession Number: 20210507-5100.

Comments Due: 5 p.m. ET 5/28/21.

Docket Numbers: ER21-1870-000.

Applicants: PacifiCorp.

Description: § 205(d) Rate Filing: Tri-State, Empire Const Agmt at Pinto (Rev1) to be effective 7/7/2021.

Filed Date: 5/7/21.

Accession Number: 20210507-5106.

Comments Due: 5 p.m. ET 5/28/21.

Docket Numbers: ER21-1871-000.

Applicants: Wisconsin Public Service Corporation.

Description: § 205(d) Rate Filing: WPSC FERC Form 1 Update to be effective 7/7/2021.

Filed Date: 5/7/21.

Accession Number: 20210507-5114.

Comments Due: 5 p.m. ET 5/28/21.

Docket Numbers: ER21-1872-000.

Applicants: Avangrid Renewables, LLC.

Description: Baseline eTariff Filing: Rate Schedule Tariff to be effective 6/6/2021.

Filed Date: 5/7/21.

Accession Number: 20210507-5153.

Comments Due: 5 p.m. ET 5/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2021.
Debbie-Anne A. Reese,
Deputy Secretary.

[FR Doc. 2021-10213 Filed 5-13-21; 8:45 am]

BILLING CODE 6717-01-P